INTERNATIONAL TRADE COMMISSION

[USITC SE-04-030]

Sunshine Act Meeting

AGENCY: United States International Trade Commission.

Time and Date: November 10, 2004 at 9:30 a.m.

Place: Room 101, 500 E Street SW., Washington, DC 20436, Telephone: (202) 205-2000.

Status: Open to the public.

Matters to be Considered: 1. Agenda for future meetings: none.

2. Minutes.

3. Ratification List.

4. Inv. No. 731-TA-1059 (Final)(Hand Trucks from China)—briefing and vote. (The Commission is currently scheduled to transmit its determination and Commissioners' opinions to the Secretary of Commerce on or before November 22, 2004.)

5. Outstanding action jackets: none.

In accordance with Commission policy, subject matter listed above, not disposed of at the scheduled meeting, may be carried over to the agenda of the following meeting.

By order of the Commission.
Issued: November 3, 2004.
Marilyn R. Abbott,
Secretary to the Commission.

[FR Doc. 04-24911 Filed 11-4-04; 11:39 am]

BILLING CODE 7020-02-P